DEPARTMENT OF AGRICULTURE

Food and Nutrition Service

Agency Information Collection Activities: Proposed Collection; Comment Request—Study of the Effectiveness of Efforts To Increase Supplemental Nutrition Assistance Program Participation Among Medicare's Extra Help Population Pilot Projects

AGENCY: Food and Nutrition Service (FNS), USDA.

ACTION: Notice.

SUMMARY: In accordance with the Paperwork Reduction Act of 1995, this notice invites the general public and other public agencies to comment on proposed information collection. The proposed collection is a new collection for the purpose of conducting the Study of the Effectiveness of Efforts to Increase Supplemental Nutrition Assistance Program Participation Among Medicare's Extra Help Population Pilot Projects.

DATES: Written comments must be received on or before October 11, 2011.

ADDRESSES: Comments are invited on (a) Whether the proposed collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to: Steven Carlson, Office of Research and Analysis, Food and Nutrition Service/USDA, 3101 Park Center Drive, Room 1014, Alexandria, VA 22302. Comments may also be submitted via fax to the attention of Steven Carlson at 703-305-2576 or via e-mail to Steve.Carlson@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Alexandria, VA 22302, Room 1014.

All responses to this notice will be summarized and included in the request for Office of Management and Budget (OMB) approval. All comments will be a matter of public record.

FOR FURTHER INFORMATION CONTACT: Requests for additional information or copies of this information collection should be directed to Steven Carlson at 703-305-2017.

SUPPLEMENTARY INFORMATION: Title: Study of the Effectiveness of Efforts to Increase Supplemental Nutrition Assistance Program Participation Among Medicare's Extra Help Population Pilot Projects

Form Number: Not yet assigned.

OMB Number: 0584-New.

Expiration Date: Not yet assigned.

Type of Request: New collection of Information.

Abstract: The Agriculture, Rural Development, Food and Drug Administration, and Related Agencies Appropriations Act, 2010 (Pub. L. 111-80) provides the Food and Nutrition Service (FNS) with funds to test the effectiveness of pilot projects designed to increase elderly participation in the Supplemental Nutrition Assistance Program (SNAP; formerly known as the Food Stamp Program). Historically, elderly individuals who are eligible for SNAP have the lowest participation rates among all demographic groups. The pilot projects will attempt to increase participation in SNAP among beneficiaries of Medicare's Extra Help by using data from Extra Help applications that are forwarded to State Medicaid offices. Because Extra Help and SNAP eligibility requirements do not directly correspond, these pilot projects will evaluate methods of using these Medicaid data to increase SNAP participation among Extra Help beneficiaries.

FNS invited State agencies to submit grant applications to use data from the Extra Help program to reduce the barriers to SNAP participation experienced by Extra Help applicants. FNS is funding three pilot projects to address some of these challenges through three approaches: (1) Targeted outreach in Washington, (2) simplified eligibility criteria in Pennsylvania, and (3) standardized SNAP benefits in New Mexico.

The overarching goal of the evaluation is to understand how the pilot programs operated, who they served, and the extent to which they generated any measurable effects on participation, cost, and SNAP benefits. As part of the evaluation, FNS will (1) Obtain a detailed description of each pilot project; (2) obtain a detailed description of the implementation process of each pilot project; (3) assess the effect of each pilot project on SNAP participation among the target population; (4) assess the effect of each pilot project on SNAP benefits; (5) assess the federal, State, and local administrative costs of each pilot project, including both implementation costs and operational costs; (6) assess the overall pilot experience among SNAP participants and non-participants within the target group; (7) assess the effect of each pilot project on SNAP case and payment errors; (8) assess the sustainability of each pilot project and the prerequisites for statewide expansion, including describing administrative barriers that may hinder replication of the pilot projects, and (9) assess and compare the relative promise of alternative models.

The information collection being requested for this project is to address the assessment of overall pilot experience among SNAP participants and eligible non-participants (objective 6 above). In order to accomplish this, the evaluation will solicit feedback from participants and non-participants through a 20-minute telephone survey and through 60-minute focus groups in order to better understand the client experience with SNAP in general and the pilot project more specifically. In pilot locations, the evaluation will also ask about respondents' impressions of the pilot initiative.

Affected Public: Individuals/Households.

Respondent Type: SNAP participants and eligible non-participants in States with a pilot project.

Estimated Number of Respondents: The total estimated number of sample members to the survey is 6,000. This includes 1,000 individuals in New Mexico, 2,000 in Washington, and 3,000 in Pennsylvania. The total estimated number of respondents to the survey is 4,803, or 80% of the sample in each State (85% of the participant sample and 75% of the nonparticipant sample). The total estimated number of sample members to the focus group is 138. The total number of focus group participants is 110, or 80% of the focus group sample in each State. This includes two groups with 10 people each in Pennsylvania, five groups with 10 people each in Washington, and four groups with 10 people each in New Mexico.

Estimated Number of Responses per Respondent: For the survey, there will be one interview per SNAP participant or nonparticipant. Participants in the focus groups will only participate once. The focus group participants in each State will be recruited from the survey sample in that State.

Estimated Time per Response: The estimated average response time is 20 minutes for the survey and 60 minutes to participate in the focus group.

Estimated Total Annual Burden on Respondents: The total estimated response time is 1,659.25 hours for the survey and 111.40 hours for the focus groups, for a total of 1,770.65 hours. See the table below for estimated total annual burden.

State | Respondent type | Type of instrument |  | Estimated number of respondents | Frequency of responses | Estimated total annual responses | Time per respondent (hours) | Annual burden hours
WA | SNAP participants and eligible non-participants | Survey questionnaire | Completed | 1,606 | 1 | 1,606 | 0.333 | 534.80
|  |  | Attempted | 394 | 1 | 394 | 0.050 | 19.70
WA | Eligible non-participants | Focus group | Completed | 50 | 1 | 50 | 1 | 50.00
|  |  | Attempted | 13 | 1 | 13 | 0.050 | 0.65
NM | SNAP participants and eligible non-participants | Survey questionnaire | Completed | 798 | 1 | 798 | 0.333 | 265.73
|  |  | Attempted | 202 | 1 | 202 | 0.050 | 10.10
NM | Eligible non-participants | Focus group | Completed | 40 | 1 | 40 | 1 | 40.00
|  |  | Attempted | 10 | 1 | 10 | 0.050 | 0.50
PA | SNAP participants and eligible non-participants | Survey questionnaire | Completed | 2,399 | 1 | 2,399 | 0.333 | 798.87
|  |  | Attempted | 601 | 1 | 601 | 0.050 | 30.05
PA | Eligible non-participants | Focus group | Completed | 20 | 1 | 20 | 1 | 20.00
|  |  | Attempted | 5 | 1 | 5 | 0.050 | 0.25
Total |  |  |  | 6,138 |  | 6,138 |  | 1,770.65

Dated: July 29, 2011.
Audrey Rowe,
Administrator, Food and Nutrition Service.

[FR Doc. 2011-20081 Filed 8-8-11; 8:45 am]

BILLING CODE 3410-30-P